DEPARTMENT OF HEALTH AND HUMAN SERVICES

National Institutes of Health

Center for Scientific Review; Amended Notice of Meeting

Notice is hereby given of a change in the meeting of the Center for Scientific Review Special Emphasis Panel, March 6, 2006, 8:30 a.m. to March 7, 2006, 1 p.m., One Washington Circle, One Washington Circle, NW., Washington, DC, 20037 which was published in the Federal Register on February 15, 2006, 71 FR 7985-7987.

The meeting will be held one day only on March 6, 2006, from 8:30 a.m. to 6 p.m. The meeting location remains the same. The meeting is closed to the public.

Dated: February 28, 2006.
Anna Snouffer,
Acting Director, Office of Federal Advisory Committee Policy.

[FR Doc. 06-2207 Filed 3-8-05; 8:45 am]

BILLING CODE 4140-01-M